NUCLEAR REGULATORY COMMISSION

[Docket No. 030-12779]

Notice of Availability of Environmental Assessment and Finding of No Significant Impact for License Amendment for University City Science Center, Philadelphia, PA

AGENCY: Nuclear Regulatory Commission.

ACTION: Notice of availability of Environmental Assessment and Finding of No Significant Impact.

FOR FURTHER INFORMATION CONTACT: Sattar Lodhi, Nuclear Materials Safety Branch 2, Division of Nuclear Materials Safety, Region I, 475 Allendale Road, King of Prussia, Pennsylvania, 19406, telephone (610) 337-5364, fax (610) 337-5269, e-mail asl@nrc.gov.

I. Introduction

The Nuclear Regulatory Commission (NRC) is considering the issuance of a license amendment to University City Science Center for Materials License No. 37-17452-01, to authorize release of its facilities in Philadelphia, Pennsylvania, for unrestricted use and to terminate the license. The NRC has prepared an Environmental Assessment (EA) in support of this action in accordance with the requirements of 10 CFR part 51. Based on the EA, the NRC has concluded that a Finding of No Significant Impact (FONSI) is appropriate. The amendment will be issued following publication of this notice.

II. EA Summary

The purpose of the proposed action is to authorize the release of the licensee's facilities in Philadelphia, Pennsylvania, for unrestricted use. University City Science Center was authorized by NRC from May 1977 to use radioactive materials for research and development purposes at the site. In March 2003, University City Science Center requested that NRC release the facility for unrestricted use and terminate the license. University City Science Center has conducted surveys of the facility and determined that the facility meets the license termination criteria in subpart E of 10 CFR part 20.

III. Finding of No Significant Impact

The NRC has prepared the EA (summarized above) in support of the proposed license amendment to terminate the license and release the facility for unrestricted use. The NRC staff has evaluated University City Science Center's request and the results of the surveys and has concluded that the completed action complies with 10 CFR part 20. The staff has found that the environmental impacts from the proposed action are bounded by the impacts evaluated by the “Generic Environmental Impact Statement in Support of Rulemaking on Radiological Criteria for License Termination of NRC-Licensed Facilities” (NUREG-1496). On the basis of the EA, NRC has concluded that the environmental impacts from the proposed action are expected to be insignificant and has determined not to prepare an environmental impact statement for the proposed action.

IV. Further Information

The EA and the documents related to this proposed action, including the application for the license amendment and supporting documentation, are available for inspection at NRC's Public Electronic Reading Room at http://www.nrc.gov/reading-rm/adams.html (ADAMS Accession Nos. ML030860181, ML032520675 and ML041040751). Persons who do not have access to ADAMS, should contact the NRC PDR Reference staff by telephone at (800) 397-4209 or (301) 415-4737, or by e-mail to pdr@nrc.gov.

Dated at King of Prussia, Pennsylvania, this 15th day of April, 2004.
For the Nuclear Regulatory Commission.
John D. Kinneman,
Chief, Nuclear Materials Safety Branch 2, Division of Nuclear Materials Safety, Region I.

[FR Doc. E4-909 Filed 4-22-04; 8:45 am]

BILLING CODE 7590-01-P